DEPARTMENT OF AGRICULTURE

Animal and Plant Health Inspection Service

[Docket No. 02-074-1]

Notice of Request for Approval of an Information Collection

AGENCY: Animal and Plant Health Inspection Service, USDA.

ACTION: New information collection; comment request.

SUMMARY: In accordance with the Paperwork Reduction Act of 1995, this notice announces the Animal and Plant Health Inspection Service's intention to initiate a new information collection activity in support of regulations requiring the certification of facilities for the treatment of fruits, vegetables, and other articles. The certification of treatment facilities is necessary to ensure that the facilities are capable of performing treatments required under our regulations to prevent the introduction or dissemination of plant pests and noxious weeds into or within the United States.

DATES: We will consider all comments that we receive on or before January 21, 2003.

ADDRESSES: You may submit comments by postal mail/commercial delivery or by e-mail. If you use postal mail/commercial delivery, please send four copies of your comment (an original and three copies) to: Docket No. 02-074-1, Regulatory Analysis and Development, PPD, APHIS, Station 3C71, 4700 River Road Unit 118, Riverdale, MD 20737-1238. Please state that your comment refers to Docket No. 02-074-1. If you use e-mail, address your comment to regulations@aphis.usda.gov. Your comment must be contained in the body of your message; do not send attached files. Please include your name and address in your message and “Docket No. 02-074-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information on the certification of treatment facilities, contact Mr. Jim Smith, Director, Port Operations, PPQ, APHIS, 4700 River Road Unit 60, MD 20737-1236; (301) 734-8295. For copies of more detailed information on the information collection, contact Mrs. Celeste Sickles, APHIS’ Information Collection Coordinator, at (301) 734-7477.

SUPPLEMENTARY INFORMATION: Title: Certification of Treatment Facilities.

OMB Number: 0579-XXXX.

Type of Request: Approval of a new information collection.

Abstract: The United States Department of Agriculture (USDA) is responsible for, among other things, preventing plant pests and noxious weeds from entering the United States and controlling and eradicating plant pests and noxious weeds in the United States. The Plant Protection Act authorizes the Department to carry out this mission. The Plant Protection and Quarantine program of USDA's Animal and Plant Health Inspection Service (APHIS) is responsible for implementing the regulations promulgated under the Act.

To carry out this mission, APHIS administers regulations intended, among other things, to prevent the introduction or dissemination of plant pests and noxious weeds into or within the United States. These regulations are contained in title 7, chapter III, of the Code of Federal Regulations (CFR).

Under the regulations, certain articles such as fruits, vegetables, and seeds must be treated to be eligible for entry into the United States or interstate movement within the United States. In some cases, treatments are performed in facilities in foreign countries; in other cases, treatments are performed aboard ship while the articles are in transit; and in still other cases, treatments are performed in facilities in the United States. All facilities that provide treatments required under our regulations, including refrigeration compartments on ships, must be certified by APHIS before they can provide those treatments.

Facilities wishing to be certified must supply APHIS with specifications, which may include plans, blueprints, drawings, or other information. Specific requirements for the certification of facilities are contained in the Plant Protection and Quarantine Treatment Manual, which is incorporated by reference at 7 CFR 300.1. We need this information to determine whether a facility can provide the treatments required for quarantine security.

We are asking the Office of Management and Budget (OMB) to approve our use of these information collection activities for certification of facilities for the treatment of fruits, vegetables, and other articles.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 1.25 hours per response.

Respondents: U.S. shippers, importers, State and Plant Health Protection authorities, owners and operators of facilities that perform quarantine treatments.

Estimated annual number of respondents: 250.

Estimated annual number of responses per respondent: 1.

Estimated annual number of responses: 250.

Estimated total annual burden on respondents: 312.5 hours. (Due to averaging, the total annual burden hours may not equal the product of the annual number of responses multiplied by the reporting burden per response.)

All responses to this notice will be summarized and included in the request for OMB approval. All comments will also become a matter of public record.

Done in Washington, DC, this 13th day of November, 2002.
Peter Fernandez,
Acting Administrator, Animal and Plant Health Inspection Service.

[FR Doc. 02-29303 Filed 11-18-02; 8:45 am]

BILLING CODE 3410-34-P